OFFICE OF PERSONNEL MANAGEMENT

[Docket ID: OPM-2023-0011]

Submission for Review: 3206-0162, Report of Medical Examination of Person Electing Survivor Benefits, OPM 1530

AGENCY: Office of Personnel Management.

ACTION: 30-Day notice and request for comments.

SUMMARY: The Office of Personnel Management (OPM), Retirement Services, offers the general public and other Federal agencies the opportunity to comment on a revised information collection request (ICR), with change: 3206-0162, Report of Medical Examination of Person Electing Survivor Benefits, OPM 1530.

DATES: Comments are encouraged and will be accepted until February 26, 2024.

ADDRESSES: Interested persons are invited to submit written comments on the proposed information collection. Written comments and recommendations for the proposed information collection should be sent within 30 days of publication of this notice to www.reginfo.gov/public/do/PRAMain. Find this particular information collection by selecting “Currently under 30-day Review—Open for Public Comments” or by using the search function.

FOR FURTHER INFORMATION CONTACT: A copy of this ICR with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or reached via telephone at (202) 936-0401.

SUPPLEMENTARY INFORMATION: As required by the Paperwork Reduction Act of 1995, OPM is soliciting comments for this collection. The information collection (OMB No. 3206-0162) was previously published in the Federal Register on May 3, 2023, at 88 FR 27930, allowing for a 60-day public comment period. No comments were received. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

At the time of retirement, an employee or Member in good health may elect an insurable interest survivor annuity benefit on behalf of an eligible beneficiary. OPM Form 1530 is used to collect the information necessary to determine whether the employee or Member is in good health, so that OPM can determine whether the applicant is eligible to elect an insurable interest survivor annuity benefit. The revision included in this ICR is as follows: (1) the Public Burden Statement has been revised; and (2) the edition date has been updated.

Analysis

Agency: Retirement Operations, Retirement Services, Office of Personnel Management.

Title: Report of Medical Examination of Person Electing Survivor Benefits.

OMB Number: 3206-0162.

Frequency: On occasion.

Affected Public: Individuals or Households.

Number of Respondents: 500.

Estimated Time Per Respondent: 90 minutes.

Total Burden Hours: 750.

Office of Personnel Management.
Kayyonne Marston,
Federal Register Liaison.

[FR Doc. 2023-28459 Filed 12-26-23; 8:45 am]

BILLING CODE 6325-38-P